DEPARTMENT OF HEALTH AND HUMAN SERVICES

Centers for Medicare & Medicaid Services

[Document Identifier: CMS-10185, CMS-10261, and CMS-R-268]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Medicare Part D Reporting Requirements and Supporting Regulations; Use: 42 CFR part 423, § 423.514, requires each part D Sponsor to have an effective procedure to provide statistics indicating: the cost of its operations, the patterns of utilization of its services, the availability, accessibility, and acceptability of its services, information demonstrating it has a fiscally sound operation and other matters as required by CMS. In addition, subsection 423.505 of the Medicare Prescription Drug, Improvement, and Modernization Act (MMA), establishes as a contract provision that Part D Sponsors must comply with the reporting requirements for submitting drug claims and related information to CMS. Data collected via Medicare Part D Reporting Requirements will be an integral resource for oversight, monitoring, compliance and auditing activities necessary to ensure quality provision of the Medicare Prescription Drug Benefit to beneficiaries. Data will be validated, analyzed, and utilized for trend reporting by the Division of Clinical and Operational Performance (DCOP) within the Medicare Drug Benefit Group. Form Number: CMS-10185 (OMB#: 0938-0992); Frequency: Yearly, Quarterly, Semi-Annually; Affected Public: Private Sector, business or other for-profit; Number of Respondents: 2993; Total Annual Responses: 48,490; Total Annual Hours: 128,754. (For policy questions regarding this collection contact LaToyia Grant at 410-786-5434. For all other issues call 410-786-1326.)

2. Type of Information Collection Request: Revision of currently approved collection; Title of Information Collection: Part C Medicare Advantage (MA) Reporting Requirements and Supporting Regulations; Use: CMS has authority to establish reporting requirements for Medicare Advantage Organizations (MAO's) as described in 42 CFR 422.516(a). Each MAO must have an effective procedure to develop, compile, evaluate, and report to CMS, to its enrollees, and to the general public, at the times and in the manner that CMS requires, and while safeguarding the confidentiality of the doctor-patient relationship, statistics and other information with respect to the cost of its operations, patterns of service utilization, availability, accessibility, and acceptability of its services, developments in the health status of its enrollees, and other matters that CMS may require. Data collected via Medicare Part C Reporting Requirements will be an integral resource for oversight, monitoring, compliance and auditing activities necessary to ensure quality provision of the benefits provided by MA plans to enrollees. Form Number: CMS-10261 (OMB# 0938-1054); Frequency: Yearly, Quarterly; Affected Public: Business or other for-profits; Number of Respondents: 588; Total Annual Responses: 1158; Total Annual Hours: 245,528. (For policy questions regarding this collection contact Terry Leid at 410-786-8973. For all other issues call 410-786-1326.)

3. Type of Information Collection Request: Extension of a currently approved collection; Title of Information Collection: CMS Survey Tool for http://www.cms.gov and http://www.medicare.gov; Use: The purpose of this submission is to continue to collect information from Internet users as they exit from the Web sites Medicare.gov and CMS.gov. To ensure that we gather information about user reactions to the Web sites, we have developed a survey tool that users can complete when they exit either site or by accessing a link on the bottom bar on the page. The responses on this survey tool will help CMS to make appropriate changes to the Web sites in the future. The survey tool contains questions about the information that visitors are seeking from the sites, the degree to which either site was useful to them, the improvements that they would like to see in the sites, and their general comments. Form Number: CMS-R-268 (OMB# 0938-0756); Frequency: Yearly; Affected Public: Individuals and households, Private sector—Business or other for-profit; Number of Respondents: 7,000; Total Annual Responses: 9,100; Total Annual Hours: 1,167. (For policy questions regarding this collection contact Matthew Aiken at 410-786-1029. For all other issues call 410-786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on May 9, 2011: OMB, Office of Information and Regulatory Affairs, Attention: CMS Desk Officer. Fax Number: (202) 395-6974. E-mail: OIRA_submission@omb.eop.gov.

Dated: April 1, 2011.
Michelle Shortt,
Director, Regulations Development Group, Office of Strategic Operations and Regulatory Affairs.

[FR Doc. 2011-8464 Filed 4-7-11; 8:45 am]

BILLING CODE 4120-01-P